DEPARTMENT OF HOUSING AND URBAN DEVELOPMENT

[Docket No. FR 5481-N-01]

Notice of Proposed Information Collection: Brownfield Economic Development Initiative (BEDI)

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: March 14, 2011.

ADDRESSES: Interested persons are invited to submit comments regarding this proposal. Comments should refer to the proposal by name and/or OMB Control Number and should be sent to: LaRuth Harper, Department of Housing Urban and Development, 451 7th Street, SW., Room 7233, Washington, DC 20410.

FOR FURTHER INFORMATION CONTACT: Nikki Bowser at telephone number 202-402-4395 (this is not a toll-free number).

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Brownfield Economic Development Initiative (BEDI).

OMB Control Number: 2506-0153.

Description of the need for the Information and proposed use: The Brownfield Economic Development Initiative is authorized pursuant to Section 108(q), Title I of the Housing and Community Development Act of 1974. BEDI is designed to help local governments redevelop brownfields, defined in the past NOFA as abandoned, idled, or underutilized real property, including industrial and commercial facilities, where expansion or redevelopment is complicated by the presence or potential presence of environmental contamination. This information collection effort is used to evaluate the quality of the proposed project or activities, and the applicant's capacity and commitment to use the BEDI funds in accordance with the purposes of the Act.

Agency form numbers, if applicable: HUD 40123, Brownfields Economic Development Application; SF-LLL, Disclosure of Lobbying Activities; SF-424, Application for Federal Assistance; SF-424 Supplement, Survey for Ensuring Equal Opportunities; HUD-40122, State Certifications Related to Non entitlements; HUD-96010, Logic Model; HUD-2880, Applicant/Recipient Disclosure Update Report; HUD-2991, Certification of Consistency with Consolidated; SF-1199A, Direct Deposit Sign Up Form; HUD 27054, LOCCS Voice Response System Access Authorization; SF 425A, Federal Financial Report; HUD 27061, Racial & Ethnic Data Reporting Form; HUD 60002, Economic Opportunity for Low & Very Low-Income Persons In Connection with Assisted Projects; Federal Funding Accountability and Transparency Act Subrecipient Reporting Form (FFATA); Federal Awardee Performance and Integrity Information System Reporting Form (FAPIIS), Consolidated Annual Performance Evaluation Report (CAPER).

Members of affected public: Community Development Block Grant (CDBG) entitlement units of general local government and non-entitlement units of general local government eligible to receive loan guarantees under 24 CFR part 570, subpart M.

Estimation of the total numbers of hours needed to prepare the Information collection including number of respondents, frequency of response, and hours of response: Approximately 25 applicants submit application package during a given BEDI program year. A BEDI application package includes a 15 page narrative, and other HUD forms that consist of approximately 40 hours to complete. Approximately 13 grantees out of the 25 applicants will be required to complete additional HUD forms for fund withdrawals and program evaluation which is estimated at 20 hours to complete. The total estimate of burden hours is 1,260 hours.

Status of the proposed information collection: This notice precedes a continuation of the existing burden hour request. It is a proposed reduction from the prior approved request of 2,000. This proposed decrease is due primarily to the decrease of program applicants and grantees.

Authority: The Paperwork Reduction Act of 1995, 44 U.S.C. Chapter 35, as amended.

Dated: January 6, 2011.
Mercedes Márquez,
Assistant Secretary for Community Planning and Development.

[FR Doc. 2011-656 Filed 1-12-11; 8:45 am]

BILLING CODE 4210-67-P